MERIT SYSTEMS PROTECTION BOARD

Performance Review Board Membership

AGENCY: Merit Systems Protection Board.

ACTION: Notice.

SUMMARY: The Merit Systems Protection Board announces the appointment of the members of its Senior Executive Service Performance Review Board. This notice supersedes all previous notices regarding the Performance Review Board membership.

DATES: These appointments are effective June 2, 2025.

FOR FURTHER INFORMATION CONTACT: Michaela Klarmann, Acting Director of Financial and Administrative Management, Merit Systems Protection Board, 1615 M Street NW, Washington, DC 20419; telephone: (771) 210-1473; or email: michaela.klarmann@mspb.gov.

SUPPLEMENTARY INFORMATION: The Merit Systems Protection Board (MSPB) is publishing the names of the current members of its Performance Review Board (PRB) as required by 5 U.S.C. 4314(c)(4) and 5 CFR 430.311. Laura M. Albornoz, MSPB, serves as Chair of the PRB. Susan M. Swafford, MSPB; Gina K. Grippando, MSPB; and Karl Kammann, Office of Special Counsel serve as members of the PRB.

Gina K. Grippando,
Clerk of the Board.

[FR Doc. 2025-09902 Filed 5-30-25; 8:45 am]

BILLING CODE 7401-01-P